DEPARTMENT OF LABOR

Employee Benefits Security Administration

177th Meeting of the Advisory Council on Employee Welfare and Pension Benefit Plans; Notice of Meeting

Correction

In notice document 2015-17424, appearing on pages 42121 through 42122 in the issue of Thursday, July 16, 2015, make the following corrections:

1. On page 42121, in the third column, in the first full paragraph, on the eighth line, “12 p.m. on May 29.” should read “12 p.m. on August 20.”

2. On the same page, in the same paragraph, on the fifteenth line, “May 29” should read “August 20”.

3. On the same page, in the same column, in the second full paragraph, on the twelfth line, “August 18 or19” should read “August 18 or 19”.

[FR Doc. C1-2015-17424 Filed 7-29-15; 8:45 am]

BILLING CODE 1505-01-D